FEDERAL COMMUNICATIONS COMMISSION

47 CFR Part 73

[MM Docket No. 00-168; FCC 00-345]

Standardized and Enhanced Disclosure of Commercial Television Station Public Interest Obligations

AGENCY: Federal Communications Commission.

ACTION: Proposed rule.

SUMMARY: This document concerns rules and policies on how commercial television broadcast station licensees provide public interest information to the public. This document proposes amendments to the public inspection file rules that would standardize the format used for providing public interest information to the public and make information contained in public inspection files available on the Internet. The intended effect of this action is to propose rules that would make information regarding how television broadcast stations meet their fundamental public interest obligation to serve the needs and interests of their communities of license easier to understand or more accessible to the public.

DATES: Comments must be filed on or before December 18, 2000, and reply comments must be filed on or before January 17, 2001. Written comments by the public on the proposed information collections are due on or before December 18, 2000. Written comments must be submitted by the Office of Management and Budget (OMB) on the proposed information collection(s) on or before December 18, 2000.

ADDRESSES: Address all comments concerning this proposed rule to the Commission's Secretary, Communications Commission, 445 Twelfth Street, SW., Washington DC 20554. In addition to filing comments with the Secretary, a copy of any comments on the information collections contained herein should be submitted to Judy Boley, Federal Communications Commission, Room 1-C804, 445 12th Street, SW., Washington, DC 20554, or via the Internet to jboley@fcc.gov, and to Edward C. Springer, OMB Desk Officer, Room 10236 NEOB, 725 17th Street, NW, Washington, DC 20503 or via the Internet to edward.springer@omb.eop.gov.

FOR FURTHER INFORMATION CONTACT: Cyndi Thomas, Policy and Rules Division, Mass Media Bureau, at (202) 418-2130, TTY (202) 418-2989. For additional information concerning the information collection(s) contained in this document, contact Judy Boley at 202-418-0214, or via the Internet at jboley@fcc.gov.

SUPPLEMENTARY INFORMATION: This is a summary of the Notice of Proposed Rulemaking in MM Docket No. 00-168, FCC 00-345, adopted on September 14, 2000, and released on October 5, 2000. The full text of this decision is available for inspection and copying during regular business hours in the FCC Reference Center, 445 Twelfth Street, SW, Room CY-A257, Washington DC, and also may be purchased from the Commission's copy contractor, International Transcription Service, (202) 857-3800, 445 Twelfth Street, SW, Room CY-B402, Washington DC. The complete text is also available under the file name fcc00345.pdf on the Commission's Internet site at www.fcc.gov.

This Notice of Proposed Rulemaking contains proposed information collection(s) subject to the Paperwork Reduction Act of 1995 (PRA). The general public and other Federal agencies are invited to comment on the proposed information collections contained in this proceeding.

Electronic Access and Filing Addresses

Comments may be filed using the Commission's Electronic Comment Filing System (ECFS) or by filing paper copies via the Internet to http://www.fcc.gov/e-file/ecfs.html. Parties may also submit an electronic comment by Internet e-mail. To get filing instructions for e-mail comments, commenters should send an e-mail to ecfs@fcc.gov, and should include the following words in the body of the message, “get form, <your e-mail address>.” A sample form and directions will be sent in reply.

Paperwork Reduction Act

This Notice of Proposed Rulemaking contains a proposed information collection. The Commission, as part of its continuing effort to reduce paperwork burdens, invites the general public and the Office of Management and Budget (OMB) to comment on the information collection(s) contained in this Notice of Proposed Rulemaking, as required by the Paperwork Reduction Act of 1995, Public Law 104-13. Public and agency comments are due at the same time as other comments on this Notice of Proposed Rulemaking; OMB comments are due 60 days from date of publication of this Notice of Proposed Rulemaking in the Federal Register. Comments should address (a) whether the proposed collection of information is necessary for the proper performance of the functions of the Commission, including whether the information shall have practical utility; (b) ways to enhance the quality, utility, and clarity of the information collected; (c) ways to minimize the burden of the collection of information on the respondents, including the use of automated collection techniques or other forms of information technology.

OMB Control Number: 3060-XXXX.

Title: Notice of Proposed Rulemaking—Standardized Disclosure Requirements for TV Broadcast Licensee Public Interest Obligations.

Form No.: Undetermined.

Estimated Time Per Response: 52.5-100 hours dependent on final rules.

Total Annual Burden: 86625-165000 hours.

Total Annual Costs: Undetermined.

Needs and Uses: The Commission has proposed in this Notice of Proposed Rulemaking to require television broadcast station licensees to use a standardized form to provide information on a quarterly basis on how the station serves the public interest. The information on this standardized form will enhance the public's access to information on how television broadcasters are meeting their public interest obligation.

Synopsis of Notice of Proposed Rulemaking

1. The Commission adopts a Notice of Proposed Rulemaking (“NPRM”) to address some of the difficulties described in response to the Notice of Inquiry (“NOI”) (65 FR 4211, January 26, 2000) in this proceeding, that members of the public have encountered in trying to access information on how television broadcasters are meeting their fundamental public interest obligation to air programming responsive to the needs and interests of its community of license. To meet that obligation in part, under current rules, commercial television broadcast station licensees must provide coverage of issues facing their communities and place lists of programming used in providing significant treatment of those issues (issues/programs lists) in the station's public inspection files on a quarterly basis. The NPRM seeks comment on the Commission's tentative conclusion to require television broadcast station licensees to use a standardized form to provide information on a quarterly basis on how the station serves the public interest. The Commission would require that this form be maintained in the station's public inspection file in place of the issues/programs lists. The Commission proposes to enhance the public's ability to access public interest information by requiring licensees to make the contents of their public inspection files, including the form, available on the station's or a state broadcasters association's Internet website. The NPRM also seeks comment on the Commission's proposal to encourage, but not mandate the use of station websites to conduct on-line discussions and facilitate interaction with the public.

2. As the Commission noted in the NOI, the discussion of television broadcasters' public interest obligations “has been renewed by their transition from analog to digital (DTV) technology.” Some of the issues raised in the NOI relate exclusively to broadcasters' use of digital technology. The Commission sought comment generally, however, on “how broadcasters can meet their public interest obligations on both their analog and digital channels during the transition period, and on various proposals and recommendations that have been made on how broadcasters could better serve their communities of license.” Television licensees may continue to broadcast in analog format until at least 2006. The mechanisms proposed below do not relate exclusively to digital transmissions. Given the benefits to be derived from the proposals set forth below, the Commission believes it should not wait until after the digital transition is complete to implement them. The Commission recognizes that the application of the proposals in this NPRM to analog as well as digital television broadcasters raises the issue of whether we should also consider changes to the disclosure obligations of radio broadcasters. The Commission began this discussion, however, with the NOI, which related only to television broadcasters, and is limiting the scope of this proceeding to television.

Standardization of Disclosures

3. The Commission seeks comment on what format a broadcast television licensee should use to provide information to the public regarding how it meets certain public interest obligations. Members of the public currently must contact a station's main studio to review a variety of documents or quarterly reports maintained in the public inspection file that provide information on station operations and management as well as what actions the station has taken to provide community-responsive programming. Station personnel must make the file available to the public at any time during regular business hours and documents must be made available for printing or photocopying upon request made in person. Stations may also maintain all or part of the file in a computer database as long as a computer terminal is made available to the public at the location of the file. Licensees that maintain a station's main studio and public file outside its community of license must provide photocopies of documents to persons within the station's geographic service area by mail upon telephone request.

4. Based upon the comments the Commission received in response to the NOI, it appears that members of the public have encountered difficulties accessing information under existing procedures. For example, People for Better TV explains that when its members reviewed public files, “the most consistent finding is the lack of consistency and uniformity about what is in the files, even within the same community.” The Commission sought comment in the NOI on the recommendation made in the December 18, 1998 report from the President's Advisory Committee on the Public Interest Obligations of Digital Television Broadcasters (Advisory Committee Report) that broadcasters should use a single standardized form to provide information to the public on a station's public interest programming and activities in the community. The Commission also sought comment on the recommendation by People for Better TV and the Advisory Committee Report that broadcasters disclose their public interest programming and activities on a quarterly basis.

5. The Commission tentatively concludes that it should require broadcasters to complete a standardized form that will allow them to disclose how they meet their obligation to serve the public interest. The Commission believes that the use of a standardized disclosure form will facilitate access to information on how licensees are serving the public interest and allow the public to play a more active role in helping a station meet its obligation to provide programming that addresses the community's needs and interests. The Commission further believes that standardized forms will make broadcasters more accountable to the public, and that improving broadcaster accountability will minimize the need for government involvement in monitoring how broadcasters comply with their public interest obligation. The Commission believes standardized disclosure will significantly reduce the time needed to locate information requested by the public and will provide the public with a better mechanism for reviewing a broadcaster's public interest programming and activities. The NPRM seeks comment on the Commission's tentative conclusion. The NPRM also asks commenters to provide empirical data on any administrative costs or benefits associated with the requirement that broadcasters, especially small broadcasters, provide public interest programming and activity information in a standardized format. Finally, the Commission tentatively concludes that the form be updated on a quarterly basis, and the NPRM seeks comment on whether this is the appropriate timeframe.

6. Given that these benefits can be realized today and are not limited to digital broadcasts, the Commission tentatively concludes it should not limit application of this requirement to DTV. The NPRM seeks comment on this, as well as on when broadcasters' first quarterly standardized forms must be placed in their public inspection files.

7. While the public inspection file rules will fully apply to analog and DTV broadcasters, the Commission recognizes some overlap in the function of the proposed standardized form and the requirement to maintain issues/programs lists. The Commission tentatively concludes that the proposed standardized public interest disclosure form will replace the requirement that broadcasters maintain issues/programs lists in their public files. The Commission believes that issues/programs lists provide such an assortment of information that the public may have difficulty determining the extent to which the station is serving the public interest. The Commission therefore believes the standardized form as proposed will perform the same intended function as the issues/programs list, while providing better and more easily accessible information on a station's public interest obligations. The NPRM seeks comment on this tentative conclusion. The Commission notes that this proceeding does not affect the other requirements of its public inspection file rules, because these requirements are not made redundant by the proposed standardized form.

Types of Disclosures

8. The Commission sought comment in the NOI on recommendations made by People for Better TV and the Advisory Committee Report to require licensees to provide specific types of public interest information. The Advisory Committee Report recommends that the enhanced disclosures “include but not be limited to contributions to political discourse, public service announcements, children's and educational programming, local programming, programming that meets the needs of underserved communities, and community-specific activities.” People for Better TV advocates requiring broadcasters to “disclose their public interest programming and activities * * * matched against ascertained community needs and interests.” The Commission also sought comment on whether public files should contain information on programming aired with closed captioning and video description. Finally, the Commission asked parties to address the extent to which the Advisory Committee's and People for Better TV's proposals parallel the Commission's previous ascertainment requirements, which the Commission repealed in the 1980s, and it asked parties to address whether its reasons for eliminating those requirements apply to its consideration of these proposals.

9. As noted above, the current issues/programs lists provide such an assortment of information that the public may have difficulty determining the extent to which the station is serving the public interest. The Commission therefore invites further comment on whether the public interest would be better served by requiring television broadcasters to provide information relating to various concrete ways in which they meet certain public interest obligations.

10. Community-responsive programming. The Commission tentatively concludes that the standardized form should ask questions about categories of programming. The Commission believes that categorization will serve the goal of this proceeding—to make disclosures about public interest efforts more uniform, easier to understand, and more accessible to the public. The NPRM seeks comment on what categories should be included on the standardized form. The Advisory Committee, for example, proposes to include local and national news programming, local and national public affairs programming, programming that meets the needs of underserved communities, programming that contributes to political discourse, other local programming that is not otherwise addressed in the form, and public service announcements. In addition to any defined categories, the Commission proposes to include a “catch-all” category to ensure that the form enables broadcasters to reflect any public interest programming they aired that does not fit neatly into one of the defined categories. While the Commission would expect that the scope of defined categories would be commonly understood and that broadcasters could exercise discretion as to which programs belong under which categories, the NPRM welcomes comment on any benefits to the public and to broadcasters of defining the proposed programming categories.

11. The proposed form is intended to standardize the format and enhance disclosure of the information broadcasters should already be compiling on their issues/programs lists. Consistent with the current requirement for maintaining issues/programs lists, the Commission therefore would expect that licensees would provide a brief narrative description in each category, including a list of the program titles aired, as well as the time, date, and duration of the programs. The Commission does not believe this will impose a substantial additional burden on broadcasters. The NPRM seeks comment on the burden of providing this type of information on a standardized form.

12. Closed captioning and video description. In 1998, the Commission adopted a transition period during which television broadcasters must meet certain benchmarks for providing closed captioning for nonexempt video programming. The Commission has also recently adopted rules for providing video description of programming for the benefit of persons with visual disabilities. The Commission sought comment in the NOI on whether the public file should contain information on programming aired with closed captioning and video description. One commenter states that the Commission “previously rejected requests to adopt recordkeeping or reporting requirements with respect to closed captioning.” Another commenter asserts that consumers who rely on captions have become increasingly frustrated with the lack of information about which programs are closed captioned. The Commission tentatively concludes that the standardized disclosure form should include information on broadcasters' provision of closed captioning and video description. The NPRM seeks comment on this approach and on what specific information should be provided.

13. Identifying community needs and interests. The Advisory Committee recommends including information on the efforts licensees take to identify the programming needs of various segments of their communities. In the NOI, the Commission sought comment on the extent to which the Advisory Committee's and People for Better TV's proposals parallel the Commission's previous ascertainment requirements, which the Commission repealed in the 1980s. The Commission also asked parties to address whether the Commission's reasons for eliminating its formal ascertainment requirements apply to its consideration of these proposals.

14. The NPRM invites further comment on whether licensees should provide a narrative description on the standardized form of the actions taken, in the normal course of business, to assess a community's programming needs and interests. The Commission believes this requirement would differ from the former ascertainment requirements, which included detailed methodologies for ascertaining the problems, needs and interests of the public within the station's service area. Licensees were required to provide demographic information on a station's community of license, conduct interviews with community leaders and members of the general public to ascertain the community's needs and interests, and provide programming responsive to those ascertained needs and interests.

15. In contrast to these formal and detailed requirements, under the Commission's proposal licensees would only provide the public with information on how, in the normal course of business, they assess community needs and interests. The Commission agrees with one commenter that repeal of the formal ascertainment requirements was not intended to alter a broadcaster's obligation to meet community needs. The Commission recognizes that in adopting the requirement to provide quarterly issues/programs lists, the Commission determined that it was not concerned with how a broadcaster became aware of community issues so long as the issues were identified and adequate responsive programming was offered or proposed. As a result, the Commission eliminated the requirement to include in the issues/programs list a description or explanation of the means by which a licensee determined any given issue as one facing its community. The Commission notes the concerns expressed, however, by another commenter, for example, that broadcasters “ignore certain communities.” The Commission also recognizes that disclosure to a community of how local broadcasters identify its needs will promote the kind of dialogue between broadcasters and communities intended by its rules without the need for government intervention. The NPRM seeks comment on the benefits and burdens of these proposals.

16. Community service activities. The Advisory Committee recommends including on the form a description of a licensee's “community service programs, community outreach, or other similar non-broadcast activities directed to serving the community of license.” One commenter describes local broadcasters as providing important support for fundraising and awareness campaigns for community organizations such as hospitals and homeless and domestic violence shelters; supporting and organizing community events such as blood drives and food as well as clothing drives for the needy; and promoting and organizing awareness campaigns covering the full range of issues confronting communities today, including AIDS awareness and prevention, alcohol abuse, and public safety. The NPRM seeks comment on whether these types of activities should be considered in assessing whether a licensee has served the public interest under the Communications Act and whether they should be listed on an attachment to the standardized form.

Access to Public Interest Information

17. In addition to standardizing the information currently required on a station's community-responsive programming, the NPRM proposes to enhance the public's access to public interest information by requiring broadcast television licensees to maintain a hard copy of the standardized form in their public inspection files and to make a station's public inspection file, including the form, available on the Internet. The NPRM seeks comment on this proposal and on whether licensees should forward an electronic copy of the disclosure form to the Commission for inclusion in the license file.

18. Public inspection file. Consistent with the current requirements for issues/programs lists, the Commission tentatively concludes that licensees must place a paper copy of the standardized disclosure form and attachments in their public inspection files each quarter and retain those forms until final action on the next renewal application. The NPRM seeks comment on this tentative conclusion.

19. Websites. The Commission currently allows licensees to maintain their public inspection file in computer databases. Stations that maintain all or part of the file in a computer database must also make a computer terminal available to the public at the location of the file. The Commission also encourages licensees to post their electronic file on any websites they maintain. In the NOI, the Commission asked for information on how many broadcasters provide their public file in electronic format, and the costs and benefits of doing so. The Commission did not receive any specific information in response to these questions. The Commission also sought comment on whether broadcasters should be required to make their public files available on the Internet.

20. The Commission tentatively concludes that each licensee must, each quarter, post the proposed standardized form and the other contents of its public inspection file on its website or its state broadcasters association's website. The Commission believes that converting the public inspection file into an electronic format and placing it and the standardized form on a website will not be unduly burdensome. Making the information available on the Internet will provide 24-hour access to it and, therefore, greatly increase public access to information on actions a station has taken to meet its public interest obligation. In contrast, the public currently only has access to public inspection files during a main studio's regular business hours. To the extent individuals do not have access to the Internet or do not want to access the information over the Internet, however, they still have the option of contacting the station's main studio. The NPRM seeks comment on this tentative conclusion. The NPRM asks commenters to provide detailed information on the cost of requiring stations that do not already maintain a website to do so. The NPRM also seeks comment on whether state broadcasters associations' websites are appropriate vehicles for posting the disclosure forms and public files and what costs may be involved. The NPRM also seeks comment on its tentative conclusion that broadcasters must maintain the disclosure forms on the website until final action has been taken on the station's next renewal license.

21. Access to persons with disabilities. In the NOI, the Commission sought comment on how websites could be made accessible to persons with disabilities. Commenters urge the Commission to ensure that broadcasters design and maintain their websites in a manner that meets the World Wide Web Consortium's Web Accessibility Initiative (W3C/WAI) guidelines. The guidelines, as well as extensive information on the guidelines, can be accessed at http://www.w3.org/WAI. The NPRM seeks comment on whether the Commission should require or encourage television broadcasters to design new or make existing websites on which they post the proposed form and public file accessible to persons with disabilities using the W3C/WAI guidelines. The NPRM also seeks comment on other ways in which broadcasters could make the disclosure form accessible over the Internet to persons with disabilities.

22. Electronic filing of the Standardized Form with the Commission. The Commission is not inclined, at this time, to require licensees to file the proposed standardized form electronically with the Commission. While licensees must maintain certain material in a station's public inspection file, they are generally not required to file such information or reports with the Commission. One commenter proposes that broadcasters should be required to file public interest reports electronically with the Commission and that the Commission should post a link to the filed reports on its own website. The Commission believes that its tentative conclusion to require licensees to make disclosure forms available on individual websites will afford both the Commission and the public adequate access to public interest information. The Commission recognizes that this approach differs from that taken in the children's television context, and seeks comment on whether the proposed standardized public interest disclosure forms should receive different treatment.

23. Other methods for distributing public interest information to the public. Commenters also provide other suggestions for how licensees might make public interest information available to the public, including on-air notifications and providing public interest information in newspapers and local-programming guides. The Commission proposes not to make any of these methods of distribution mandatory, but again encourages television broadcasters to provide information to the public under any of these proposals. The NPRM seeks comment on this approach.

24. Licensee interaction with the public through Internet websites. While licensees may already interact with the public through telephone calls and visits in person to assess a community's programming needs and interests, the Commission sought comment in the NOI on whether it should require licensees to use Internet websites to ensure that they are responsive to the needs of the public. The Commission believes licensees could make very effective use of the Internet to maintain a continuous dialogue with their communities. At this time, however, the Commission is inclined not to mandate interaction with the public through Internet websites, but to encourage broadcasters to use their websites to conduct discussions with members of the public. The NPRM seeks comment on this approach.

Administrative Matters

25. Comments and Reply Comments. Pursuant to Sections 1.415 and 1.419 of the Commission's rules, 47 CFR 1.415, 1.419, interested parties may file comments on or before December 18, 2000, and reply comments on or before January 17, 2001. Comments may be filed using the Commission's Electronic Filing System (ECFS) or by filing paper copies. See Electronic Filing of Documents in Rulemaking Proceedings, 63 FR 24121, May 1, 1998.

26. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, postal service mailing address, and the applicable docket or rulemaking number. Parties may also submit an electronic comment by Internet e-mail. To get filing instructions for e-mail comments, commenters should send an e-mail to ecfs@fcc.gov, and should include the following words in the body of the message, “get form, <your e-mail address>.” A sample form and directions will be sent in reply.

27. Parties who choose to file by paper should also submit comments on diskette. These diskettes should be submitted to: Wanda Hardy, 445 Twelfth Street, S.W., Room 2-C221, Washington, D.C. 20554. Such a submission should be on a 3.5 inch diskette formatted in an IBM compatible format using WORD 97 or compatible software. The diskette should be accompanied by a cover letter and should be submitted in “read only” mode. The diskette should be clearly labeled with the commenter's name, proceeding (including the docket number (MM Docket No. 00-168)), type of pleading (comment or reply comment), date of submission, and the name of the electronic file on the diskette. The label should also include the following phrase: “Disk Copy—Not an Original.” Each diskette should contain only one party's pleadings, preferably in a single electronic file. In addition, commenters must send diskette copies to the Commission's copy contractor, International Transcription Service, Inc., 445 Twelfth Street, S.W., Room CY-B402, Washington, D.C. 20554.

28. Ex Parte Rules. This proceeding will be treated as a “permit-but-disclose” proceeding, subject to the “permit-but-disclose” requirements under Section 1.1206(b) of the rules, 47 CFR 1.1206(b), as revised. Ex parte presentations are permissible if disclosed in accordance with Commission rules, except during the Sunshine Agenda period when presentations, ex parte or otherwise, are generally prohibited. Persons making oral ex parte presentations are reminded that a memorandum summarizing a presentation must contain a summary of the substance of the presentation and not merely a listing of the subjects discussed. More than a one or two sentence description or the views and arguments presented is generally required. 47 CFR 1.1206(b)(2), as revised. Additional rules pertaining to oral and written presentations are set forth in Section 1.1206(b) of the Commission's rules.

29. Initial Regulatory Flexibility Analysis. An Initial Regulatory Flexibility Analysis (IRFA) is contained in Appendix B of the NPRM. As required by Section 603 of the Regulatory Flexibility Act, 5 U.S.C. 603, the Commission has prepared an IRFA of the expected impact on small entities of the proposals contained in this NPRM. Written public comments are requested on the IRFA. To fulfill the mandate of the Contract with America Advancement Act of 1996 regarding the Final Regulatory Flexibility Analysis, the Commission asks a number of questions in its IRFA regarding the prevalence of small business in the television broadcasting industry. Comments on the IRFA must be filed in accordance with the same filing deadlines as comments on the NPRM, but they must have a distinct heading designating them as responses to the IRFA. The Commission's Reference Information Center, Consumer Information Bureau, will send a copy of this NPRM, including the IRFA, to the Chief Counsel for Advocacy of the Small Business Administration in accordance with Section 603(a) of the Regulatory Flexibility Act, Public Law 96-354, 94 Stat. 1164, 5 U.S.C. 601 et seq. (1981), as amended.

30. Initial Paperwork Reduction Act Analysis. This NPRM may contain either proposed or modified information collections. As part of our continuing effort to reduce paperwork burdens, the Commission invites the public to take this opportunity to comment on the information collections contained in this NPRM, as required by the Paperwork Reduction Act of 1996. Public and agency comments are due at the same time as other comments on the NPRM. Comments should address: (a) Whether the proposed collection of information is necessary for the proper performance of the functions of the Commission, including whether the information shall have practical utility; (b) ways to enhance the quality, utility, and clarity of the information collected; (c) ways to minimize the burden of the collection of information on the respondents, including the use of automated collection techniques or other forms of information technology. In addition to filing comments with the Secretary, a copy of any comments on the information collections contained in this NPRM should be submitted to Judy Boley, Federal Communications Commission, 445 Twelfth Street, S.W., Room 1-C804, Washington, D.C. 20554, or over the Internet to jboley@fcc.gov and to Edward Springer, OMB Desk Officer, 10236 NEOB, 725 17th Street, N.W., Washington, D.C. 20503 or over the Internet to edward.springer@omb.eop.gov.

31. Additional Information. For additional information on this proceeding, please contact Cyndi Thomas, Legal Branch, Policy and Rules Division, Mass Media Bureau, (202) 418-2130.

Initial Regulatory Flexibility Analysis

As required by the Regulatory Flexibility Act (RFA), the Commission has prepared this Initial Regulatory Flexibility Analysis (IRFA) of the possible significant economic impact on small entities by the policies and rules proposed in this Notice of Proposed Rulemaking (“NPRM”). Written public comments are requested on this IRFA. Comments must be identified as responses to the IRFA and must be filed by the deadlines for comments as provided in the NPRM. The Commission will send a copy of the NPRM, including this IRFA, to the Chief Counsel for Advocacy of the Small Business Administration (SBA). In addition, the NRPM and IRFA (or summaries thereof) will be published in the Federal Register.

Need for and Objectives of the Proposed Rules

On December 20, 1999, the Commission released a Notice of Inquiry (“NOI”) seeking comment on several issues related to how broadcasters might best serve the public interest during and after the transition from analog to digital television (DTV). One of a television broadcaster's fundamental public interest obligations is to air programming responsive to the needs and interests of its community of license. As part of this obligation, commercial television broadcast station licensees must currently provide coverage of issues facing their communities and place lists of programming used in providing significant treatment of those issues (issues/programs lists) in the station's public inspection files on a quarterly basis. The record developed in response to the NOI, however, provides information on the “lack of consistency and uniformity” in accessing information in a station's public inspection files.

The Commission is now proposing to require analog and DTV broadcast station licensees to use a standardized form to provide certain information on how stations serve the public interest. The form would be provided on a quarterly basis and maintained in the station's public inspection file in place of the issues/programs lists. The Commission is also proposing to require that licensees make the contents of their public inspection files, including the standardized form, available on the station's or a state broadcasters association's Internet website. The Commission believes that making information, regarding how a television broadcast station serves the public interest easier to understand and more accessible will promote discussion between the licensee and its community, lessening the need for government involvement in ensuring that a station is meeting its public interest obligation.

Legal Basis

Authority for the actions proposed in this NPRM may be found in Sections 4(i), 303, 307, 309, and 336 of the Communications Act of 1934, as amended, 47 U.S.C. 154(i), 303, 307, 309, and 336, and Sections 1.412, 1.413, and 1.415 of the Commission's rules, 47 CFR 1.412, 1.413, and 1.415.

Description and Estimate of the Number of Small Entities to Which the Proposed Rules Will Apply

The RFA directs agencies to provide a description of, and, where feasible, an estimate of the number of small entities that may be affected by the proposed rules, if adopted. The RFA defines the term “small entity” as having the same meaning as the terms “small business,” “small organization,” and “small governmental jurisdiction.” In addition, the term “small business” has the same meaning as the term “small business concern” under Section 3 of the Small Business Act. A small business concern is one which: (1) Is independently owned and operated; (2) is not dominant in its field of operation; and (3) satisfies any additional criteria established by the SBA.

The statutory definition of a small business applies “unless an agency after consultation with the Office of Advocacy of the SBA and after opportunity for public comment, establishes such definition(s) in the Federal Register. A “small organization” is generally “any not-for-profit enterprise which is independently owned and operated and is not dominant in its field”. Nationwide, as of 1992, there were approximately 275,801 small organizations.

The SBA defines a television broadcasting station that has $10.5 million or less in annual receipts as a small business. A television broadcasting station is an establishment primarily engaged in broadcasting visual programs to the public, except cable and other pay television stations. Included in this industry are commercial, religious, educational, and other television stations. According to Commission staff review of the BIA Publications, Inc., Master Access Television Analyzer Database on July 11, 2000, fewer than 800 commercial television broadcast stations (65%) subject to our proposal have revenues of less than $10.5 million. We note, however, that under SBA's definition, revenues of affiliates that are not television stations should be aggregated with the television station revenues in determining whether a concern is small. Our estimate, therefore, may overstate the number of small entities because the revenue figure on which it is based does not include or aggregate revenues from non-television affiliated companies. It would appear that there would be no more than 800 entities affected.

Description of Projected Reporting, Recordkeeping, and Other Compliance Requirements

Licensees must currently maintain in their station's public inspection files quarterly issues/programs lists, records that substantiate certification of compliance with the commercial limits on children's programming and quarterly Children's Television Programming Reports (FCC Form 398). Television and radio broadcast station licensees must also maintain information in their public inspection files on applications, authorizations, citizens agreements, service contour maps, ownership reports, annual employment reports, written correspondence with the public on station operations, material related to Commission investigations or complaints, and certification that the licensee is complying with its requirements for local public notice announcements. In addition, broadcast licensees must maintain a separate file within the public inspection file concerning requests by political candidates for broadcast time on the station.

The Commission is proposing to standardize and enhance disclosure of information from these public inspection files. Specifically, the Commission proposes to replace the issues/programs list with a standardized form and to require broadcasters to indicate their compliance with closed captioning and video description requirements as well as describe how, in the normal course of business, they assess community needs and interests. In addition, the Commission proposes to require broadcasters to make their public inspection files, including the forms, available on the Internet. This endeavor would not require broadcasters to collect any new information. Rather, the proposals would require television broadcasters to provide public interest information in a new format—on a standardized form as well as on the Internet. The proposals would require the same reporting, recordkeeping, and other compliance requirements for small television station broadcasters as large broadcasters. The NPRM seeks comment on these issues, including comment specifically directed toward the possible effects of the requirements on small entities.

Steps Taken To Minimize Significant Economic Impact on Small Entities, and Significant Alternatives Considered

The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

The NPRM requests comment on the Commission's tentative conclusion to replace the issues/programs list with a standardized form. An alternative to the proposed use of a standardized form would be to leave the issues/programs list as it currently exists. Based on comments to the NOI, however, we believe that a standardized disclosure would simplify the process of providing requested information. This simplification would significantly reduce the time licensees, including small broadcast television station licensees, need to locate information requested by the public. The NPRM specifically asks for cost information associated with the requirement that broadcasters, especially small broadcasters, provide public interest information in a standardized format.

By definition, the standardized disclosure form would ask questions about defined categories of programming. Accordingly, the NPRM seeks comment on what categories should be included on the form. While categories should be defined, the Commission believes it is not necessary to define what type of programming would fall within any category, leaving it to the broadcasters' discretion to determine which programs belong under which categories. The NPRM also seeks comment on the Commission's tentative view only to require that licensees certify on the standardized form compliance with the minimum requirements for closed captioning and video description.

The NPRM invites further comment on whether licensees should provide a narrative description on the standardized form of the actions taken, in the normal course of business, to assess a community's programming needs and interests. This requirement would be much less burdensome than the Commission's former ascertainment requirements, which included detailed methodologies for ascertaining the problems, needs and interests of the public within the station's service area. Finally, the NPRM seeks comment on whether a licensee's activities in its community, including supporting and organizing community events and promoting and organizing awareness campaigns, should be considered in assessing whether a licensee has served the public interest under the Communications Act and whether they should be listed on an attachment to the standardized form. The alternative to this requirement would be to leave the rule as is. Based on our experience and the comments to the NOI, we believe that it serves an important public interest to make the information available in a clear and easy to understand format.

The NPRM also requests comment on the Commission's tentative conclusion to require licensees each quarter to place a paper copy of the standardized form in their public inspection files and to make their public inspection files, including the standardized forms, available on the Internet until final action has been taken on the station's next renewal license. As an alternative to posting the information on each station's website, the Commission has proposed allowing licensees to make the public inspection file available on state broadcasters associations' websites. The Commission has asked for cost information on creating new websites as well as using a licensee's state broadcasters association's website. The NPRM seeks comment on whether television broadcasters should be encouraged or required to make websites on which they post the proposed form and public file accessible to persons with disabilities and proposes not to require licensees to file the proposed form with the Commission. One alternative that the Commission considered was a requirement to mandate this type of interaction with the public. As the NPRM states, however, the Commission is disinclined to mandate interaction with the public through Internet websites, but encourages broadcasters to use their websites to conduct discussions with members of the public. The Commission is seeking comment on these proposed alternatives so as to minimize the effect of the proposed rules on small businesses.

Federal Rules That May Duplicate, Overlap, or Conflict With the Proposed Rules

None.

Ordering Clauses

32. This Notice of Proposed Rulemaking is issued pursuant to the authority contained in Sections 4(i), 303, 307, 309, and 336 of the Communications Act of 1934, as amended, 47 U.S.C. 154(i), 303, 307, 309, and 336, and Sections 1.412, 1.413, and 1.415 of the Commission's rules, 47 CFR 1.412, 1.413, and 1.415.

33. The Commission's Consumer Information Bureau, Reference Information Center, shall send a copy of this NPRM, including the Initial Regulatory Flexibility Analysis, to the Chief Counsel for Advocacy of the Small Business Administration.

List of Subjects in 47 CFR Part 73

Television broadcasting.

Federal Communications Commission.
Magalie Roman Salas,
Secretary.

[FR Doc. 00-26785 Filed 10-18-00; 8:45 am]

BILLING CODE 6712-01-P